DEPARTMENT OF THE TREASURY

Internal Revenue Service

Electronic Tax Administration Advisory Committee; Notice of Meeting

AGENCY: Internal Revenue Service (IRS), Treasury.

ACTION: Notice of meeting.

SUMMARY: The Electronic Tax Administration Advisory Committee (ETAAC) will hold a public meeting on Wednesday, June 19, 2019.

FOR FURTHER INFORMATION CONTACT: Mr. Michael Deneroff, Office of National Public Liaison, at (202) 317-6851, or send an email to publicliaison@irs.gov.

SUPPLEMENTARY INFORMATION: Notice is hereby given pursuant to section 10(a)(2) of the Federal Advisory Committee Act, 5 U.S.C. App. (1988), that a public meeting of the ETAAC will be held on Wednesday, June 19, 2019 from 9:00 a.m. to 12:00 p.m. at 1111 Constitution Avenue NW, Washington, DC 20224. The purpose of the ETAAC is to provide continuing advice with regard to the development and implementation of the IRS organizational strategy for electronic tax administration. ETAAC is an organized public forum for discussion of electronic tax administration issues such as prevention of identity theft and refund fraud. It supports the overriding goal that paperless filing should be the preferred and most convenient method of filing tax and information returns. ETAAC members convey the public's perceptions of IRS electronic tax administration activities, offer constructive observations about current or proposed policies, programs and procedures, and suggest improvements. Due to limited seating and security requirements, call or email Michael Deneroff to confirm your attendance. Mr. Deneroff can be reached at 202-317-6851 or PublicLiaison@irs.gov. Should you wish the ETAAC to consider a written statement, please call 202-317-6851 or email: PublicLiaison@irs.gov.

Dated: May 23, 2019.
John Lipold,
Designated Federal Official, Branch Chief, National Public Liaison.

[FR Doc. 2019-11294 Filed 6-3-19; 8:45 am]

BILLING CODE 4830-01-P